DEPARTMENT OF ENERGY

Federal Energy Regulatory Commission

Combined Notice of Filings #1

Take notice that the Commission received the following electric corporate filings:

Docket Numbers: EC20-30-000.

Applicants: Innovative Solar 42, LLC.

Description: Application for Authorization Under Section 203 of the Federal Power Act, et al. of Innovative Solar 42, LLC.

Filed Date: 1/10/20.

Accession Number: 20200110-5265.

Comments Due: 5 p.m. ET 1/31/20.

Take notice that the Commission received the following exempt wholesale generator filings:

Docket Numbers: EG20-63-000.

Applicants: Oklahoma Wind, LLC.

Description: Notice of Self-Certification of Exempt Wholesale Generator Status of Oklahoma Wind, LLC.

Filed Date: 1/10/20.

Accession Number: 20200110-5251.

Comments Due: 5 p.m. ET 1/31/20.

Docket Numbers: EG20-64-000.

Applicants: Sooner Wind, LLC.

Description: Notice of Self-Certification of Exempt Wholesale Generator Status of Sooner Wind, LLC.

Filed Date: 1/10/20.

Accession Number: 20200110-5255.

Comments Due: 5 p.m. ET 1/31/20.

Take notice that the Commission received the following electric rate filings:

Docket Numbers: ER15-705-004.

Applicants: Pacific Gas and Electric Company.

Description: Compliance filing: Compliance filing City and County of San Francisco IA and TFAs (SA 284) to be effective 7/23/2015.

Filed Date: 1/13/20.

Accession Number: 20200113-5076.

Comments Due: 5 p.m. ET 2/3/20.

Docket Numbers: ER15-705-005.

Applicants: Pacific Gas and Electric Company.

Description: Compliance filing: Compliance Filing City and County of San Francisco TIA and TFAs (SA 284) to be effective 7/1/2015.

Filed Date: 1/13/20.

Accession Number: 20200113-5084.

Comments Due: 5 p.m. ET 2/3/20.

Docket Numbers: ER20-108-001.

Applicants: Southwest Power Pool, Inc.

Description: Tariff Amendment: 3127R1 Montana-Dakota NITSA NOA—Deficiency Response to be effective 12/1/2019.

Filed Date: 1/13/20.

Accession Number: 20200113-5106.

Comments Due: 5 p.m. ET 2/3/20.

Docket Numbers: ER20-410-001.

Applicants: High Desert Power Project, LLC.

Description: Tariff Amendment: Amendment to 3 to be effective 11/20/2019.

Filed Date: 1/13/20.

Accession Number: 20200113-5046.

Comments Due: 5 p.m. ET 2/3/20.

Docket Numbers: ER20-688-001.

Applicants: Tri-State Generation and Transmission Association, Inc.

Description: Tariff Amendment: Amendment to Other Transmission Service Agreements under the OATT to be effective 3/23/2020.

Filed Date: 1/10/20.

Accession Number: 20200110-5222.

Comments Due: 5 p.m. ET 1/21/20.

Docket Numbers: ER20-691-001.

Applicants: Tri-State Generation and Transmission Association, Inc.

Description: Tariff Amendment: Amendment to Rate Schedule No. 216 to be effective 3/23/2020.

Filed Date: 1/10/20.

Accession Number: 20200110-5225.

Comments Due: 5 p.m. ET 1/21/20.

Docket Numbers: ER20-695-001.

Applicants: Tri-State Generation and Transmission Association, Inc.

Description: Tariff Amendment: Amendment to Rate Schedule Nos. 121 and 129 to be effective 3/23/2020.

Filed Date: 1/10/20.

Accession Number: 20200110-5234.

Comments Due: 5 p.m. ET 1/21/20.

Docket Numbers: ER20-772-000.

Applicants: Tri-State Generation and Transmission Association, Inc.

Description: Tariff Cancellation: Notice of Cancellation of Rate Schedule Nos. 172 and 173 to be effective 3/23/2020.

Filed Date: 1/10/20.

Accession Number: 20200110-5237.

Comments Due: 5 p.m. ET 1/31/20.

Docket Numbers: ER20-773-000.

Applicants: Duke Energy Progress, LLC.

Description: Notice of Cancellation of Service Agreements (Nos. 75, et al.) of Duke Energy Progress, LLC.

Filed Date: 1/10/20.

Accession Number: 20200110-5256.

Comments Due: 5 p.m. ET 1/31/20.

Docket Numbers: ER20-774-000.

Applicants: Tucson Electric Power Company.

Description: 205(d) Rate Filing: Concurrence to CAISO RS No. 6046 to be effective 1/14/2020.

Filed Date: 1/13/20.

Accession Number: 20200113-5050.

Comments Due: 5 p.m. ET 2/3/20.

Docket Numbers: ER20-775-000.

Applicants: Southwest Power Pool, Inc.

Description: 205(d) Rate Filing: 3618 Little Blue Wind, LLC GIA to be effective 12/19/2019.

Filed Date: 1/13/20.

Accession Number: 20200113-5063.

Comments Due: 5 p.m. ET 2/3/20.

Docket Numbers: ER20-776-000.

Applicants: Appalachian Power Company, PJM Interconnection, L.L.C.

Description: 205(d) Rate Filing: PJM Transmission Owners submit revisions to OATT, Sch. 12 re: Economic Projects to be effective 3/13/2020.

Filed Date: 1/13/20.

Accession Number: 20200113-5140.

Comments Due: 5 p.m. ET 2/3/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 13, 2020.
Nathaniel J. Davis, Sr.,
Deputy Secretary.

[FR Doc. 2020-00792 Filed 1-17-20; 8:45 am]

BILLING CODE 6717-01-P